DEPARTMENT OF HEALTH AND HUMAN SERVICES

Health Resources and Services Administration

Standardized Tests and Minimum Passing Scores for Foreign Health Care Workers To Demonstrate English Language Proficiency

AGENCY: Health Resources and Services Administration (HRSA), Department of Health and Human Services (HHS).

ACTION: Request for comments.

SUMMARY: HRSA proposes modifications to the list of standardized tests and minimum passing scores for foreign health care workers to demonstrate English language proficiency pursuant to section 343 of the Illegal Immigration Reform and Immigrant Responsibility Act of 1996 (IIRIRA).

DATES: Submit comments no later than December 9, 2024, 11:59 p.m. (ET).

ADDRESSES: You may submit comments by any of the following methods:

• Federal Web-Based Portal: https://www.regulations.gov/. This is the preferred method for the submission of comments. Follow instructions for submitting comments. Include Billing Code 4165-15 in your comments. All submitted comments will be posted without changes to https://www.regulations.gov/. Please do not include any personally identifiable or confidential business information you do not want publicly disclosed.

• Email: HRSAComments@hrsa.gov and HRSA_ELP@hrsa.gov with the subject line: “Billing Code 4165-15 Comments on Standardized Tests and Minimum Passing Scores for Foreign Health Care Workers.” This is the alternative method for the submission of comments. Please do not include any personally identifiable or confidential business information you do not want publicly disclosed.

FOR FURTHER INFORMATION CONTACT: Tanchica West, Office of Special Health Initiatives, Office of Global Health, HRSA, 5600 Fishers Lane, Rockville, Maryland 20857, 301-443-4412.

SUPPLEMENTARY INFORMATION:

I. Background

The purpose of this request is to solicit public comments regarding proposed modifications to the current list of tests and passing scores approved by HHS through HRSA pursuant to section 343 of the IIRIRA, Public Law 104-208 (8 U.S.C. 1182(a)(5)(C)) and implementing regulations promulgated by the Department of Homeland Security at 8 CFR 212.15(g), to demonstrate English language proficiency for noncitizen health care workers. Demonstration of English language proficiency is an element of the certification requirements for certain noncitizen health care workers seeking admission to the United States for the primary purpose of performing labor in a covered health care occupation. HRSA is seeking public comments regarding proposed modifications to the current list of approved standardized tests and minimum passing scores required for certification of foreign health care workers to enhance consistency across approved tests.

Public comments may include the submission of evaluation studies, concordance analysis and findings of concordance, or methodologies supporting the inclusion of a particular test or minimum passing score for demonstrating English language proficiency. In addition to evidence and justification, HRSA requests that comments include:

(1) A bulleted summary of no more than five (5) pages (12-point font single spaced) and

(2) The table (below) with responses for each applicable recommendation.

Comments may address any aspect of the proposed modifications, and all comments will be considered.

Summary of Recommendations on English Language Proficiency Tests and Scores
[12-point font single spaced]
Test name | Test section | Current score | Recommended score | Justification and impact | Evidence | Timeframe
[Insert Name of Test] | [Insert what section of the test the modification refers to, i.e., overall, listening, reading, writing, or speaking.] | [Insert current score for each test by health profession or occupation by level of degree.] | [Insert recommended score for each test by health profession or occupation by level of degree.] | [Provide a brief description of why the modification is necessary.] [Provide a brief description of potential impact of the modification if accepted.] | [Describe evidence to support this modification (i.e., concordance analysis and findings, evaluation studies, and other supporting material to substantiate this recommendation).] | [Insert if this modification is time sensitive. If yes, describe why.]
Summary of Administrative Comments on English Language Proficiency Tests and Scores

Test name | Test section | Current language | Suggested language | Justification and impact | Evidence | Timeframe
[Insert Name of Test] | [Insert what section of the test the modification refers to, i.e., overall, listening, reading, writing, or speaking, if applicable.] | [Insert recommended modification by health profession or occupation by level of degree.] | [Insert recommended modification by health profession or occupation by level of degree.] | [Provide description of why the modification is necessary.] [Provide description of potential impact of the modification if accepted.] | [Describe evidence to support this modification (i.e., concordance analysis and findings, evaluation studies, and other supporting material to substantiate this recommendation).] | [Insert if this modification is time sensitive. If yes, describe why.]
General
[Insert any other comments.]

Proposed Modifications to the June 2022 List of Approved Standardized Tests and Minimum Passing Scores:

(1) Cambridge English provides in-depth exams to prove knowledge of the English language.¹ HRSA proposes the following modification to the listing:

¹ See, Cambridge English website: https://cambridgeenglish.org.

a. Change the title of the tests from “Cambridge Assessment English: B2 First, C1 Advanced, or C2 qualifications exams” to “Cambridge English B2 First, C1 Advanced, or C2 Proficiency,” because Cambridge English changed the name of the exams.

b. The minimum passing scores for each of the occupations will remain unchanged.

(2) Test of English as a Foreign Language internet-Based Test (TOEFL iBT) prepares test-takers for immigration to the United States by examining their English ability.² HRSA proposes the following modifications to the listing:

² See,website for English as a Foreign Language (TOEFL) Internet-Based Test: https://www.ets.org/toefl/institutions/ibt/about.html.

a. Change the title from “Test of English as a Foreign Language (TOEFL) internet-Based Test” to “Test of English as a Foreign Language internet-Based Test (TOEFL iBT),” to reflect the organization's current name for the exam.

b. Increase the overall passing score from an 81 to an 83 for registered nurses and Bachelor of Science level health care workers to enhance parity among minimum passing test scores across approved tests.

c. Increase the minimum passing score for the “Speaking” section from 24 to 26 for registered nurses and Bachelor of Science level health care workers to enhance parity among minimum passing test scores across approved tests.

d. There are no proposed changes to the minimum passing scores for health care workers holding less than a Bachelor of Science degree and occupational therapists/physical therapists.

(3) HRSA understands that the TOEFL Paper-Based Test has been discontinued.³ HRSA therefore proposes the following modification to the listing:

³ See, Test of English as a Foreign Language (TOEFL) website: https://www.ets.org/toefl.html.

a. Remove the TOEFL Paper-Based Test from the list of standardized tests and minimum passing scores to demonstrate English language proficiency, since it is no longer available for test-takers.

(4) Test of English in International Communication (TOEIC) (Listening and Reading) and TOEIC (Speaking and Writing) measure English comprehension skills and determines a test-taker's ability to communicate in English effectively and proficiently.⁴ HRSA proposes the following modifications to the listing:

⁴ See, website for Test of English in International Communication (TOEIC) https://www.ets.org//toeic/test-takers/about.html.

a. Increase the minimum passing score from 700 to 725 for “Listening and Reading” for health care workers holding less than a Bachelor of Science degree to enhance parity among minimum passing test scores across approved tests.

b. There are no proposed changes to the minimum passing score of 160 for “Speaking” and 150 for “Writing” for registered nurses, Bachelor of Science level health care workers, and health care workers holding less than a Bachelor of Science degree.

(5) The Occupational English Test (OET) is a language test designed to evaluate language skills of healthcare professionals in an English-speaking environment.⁵ HRSA proposes the following modifications to the listing:

⁵ See, website for the Occupational English Test (OET): https://oet.com/en-us.

a. Change test scores from a letter-based scoring system to numerical values, as suggested by OET, to increase precision in scoring and overall parity across English language proficiency tests. For registered nurses and Bachelor of Science level health care workers, the current minimum passing score for “Reading,” “Writing,” and “Listening” is a letter grade of C+ and a letter grade of B for “Speaking.” HRSA proposes to replace these letter scores with the equivalent numeric scores of 300 for “Reading,” “Writing,” and “Listening,” and 350 for “Speaking” which, per consultation with OET, does not represent an increase or decrease in minimum passing test scores.

b. For health care workers holding less than a Bachelor of Science degree, the current minimum passing score for “Reading,” “Writing,” and “Listening” is a letter grade of C and a letter grade of B for “Speaking.” HRSA proposes to replace these letter scores with the equivalent numeric scores of 250 for “Reading,” “Writing,” “Listening,” and 350 for “Speaking” which, per consultation with OET, does not represent an increase or decrease in minimum passing test scores.

c. For occupational and physical therapists, there are currently no minimum passing tests scores listed for OET. HRSA proposes the minimum passing scores of 300 for “Reading,” “Writing,” and “Listening” and the score of 350 for “Speaking” to include versions of OET designed specifically for occupational and physical therapists.

(6) Pearson PTE Academic is a computer-based exam that measures academic-level speaking, writing, reading, and listening skills.⁶ HRSA proposes the following modification to the listing:

⁶ See, website for Pearson PTE Academic: https://www.pearsonpte.com/pte-academic.

a. Add a new passing minimum score of 63 for “Speaking” for registered nurses and Bachelor of Science level health care workers. Previously, no passing minimum score for “Speaking” was listed. HRSA proposes this change to enhance parity among minimum passing test scores.

To reflect the aforementioned modifications*, HRSA proposes to update its website to replace the June 2022 listing of approved standardized tests and minimum passing scores with the following table, which reflects the information described above:

* Proposed modifications are bolded and italicized for this document but will not appear in bold and italics when published on the website.

English competency tests | Scores: occupational therapists/physical therapists | Scores: registered nurses and B.S. level health care workers | Scores: <B.S. level health care workers
Cambridge English B2 First, C1 Advanced, or C2 Proficiency | Cambridge English Scale 185 overall and 185 Speaking | Cambridge English Scale 176 overall and 185 Speaking | Cambridge English Scale 169 overall and 185 Speaking.
Educational Testing Service: TOEFL Internet-Based Test | Overall 89 with minimum of 63 on Reading, Listening and Writing and 26 on Speaking | Overall 83 with minimum of 57 on Reading, Listening and Writing and 26 on Speaking | Overall 77 with minimum of 53 on Reading, Listening, and Writing and 24 on Speaking.
Educational Testing Service: TOEIC (Listening and Reading) | Not applicable | 725 | 725.
Educational Testing Service: TOEIC (Speaking/Writing) | Not applicable | 160 Speaking/150 Writing | 160 Speaking/150 Writing.
International English Language Testing System (IELTS) | Not applicable | 6.5 academic with minimum of 7 on Speaking | 6 academic or general with minimum of 7 on Speaking.
Michigan English Test (MET) | Not applicable | Overall 55; minimum Speaking section score of 55 | Overall 55; minimum Speaking section score of 55.
Occupational English Test (OET) | Reading, Writing, Listening/300; Speaking 350 | Reading, Writing, Listening/300; Speaking 350 | Reading, Writing, Listening/250; Speaking 350.
Pearson PTE Academic | Not applicable | Overall 55; Reading, Writing, Listening, no section below 50 63 minimum for Speaking | Overall 55; Reading, Writing, Listening, no section below 50.

Maria G. Button,
Director, Executive Secretariat.

[FR Doc. 2024-25854 Filed 11-6-24; 8:45 am]

BILLING CODE 4165-15-P